DEPARTMENT OF TRANSPORTATION

Pipeline and Hazardous Materials Safety Administration

Office of Hazardous Materials Safety; Notice of Application for Exemptions

AGENCY: Pipeline and Hazardous Materials Safety Administration, DOT.

ACTION: List of applications for exemption.

SUMMARY: In accordance with the procedures governing the application for, and the processing of, exemptions from the Department of Transportation's hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before June 15, 2005.

Address Comments to: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT:

Copies of the applications are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC, on May 10, 2005.
R. Ryan Posten,
Exemptions Program Officer, Office of Hazardous Materials Safety, Exemptions & Approvals.

Application No. | Docket No. | Applicant | Regulation(s) affected | Nature of exemption thereof
14183-N | PHMSA-21128 | LND, Inc., Oceanside, NY | 49 CFR 173.302a, 172.101(9A) | To authorize the manufacture, marking, sale and use of non-DOT specification sealed electron tube radiation sensors to transport Division 2.1 and 2.2 materials. (Modes 1, 2, 3, 4, 5.)
14184-N | PHMSA-21129 | Global Refrigerants, Inc., Denver, CO | 49 CFR 173.301(j) | To authorize the one-time, one-way, transportation in commerce of approximately 250 non-DOT specification cylinders of refrigerant gas. (Mode 1.)
14185-N | PHMSA-21123 | U.S. Department of Energy, Washington, DC | 49 CFR 173.420 | To authorize the transportation in commerce of uranium hexafluoride in non-DOT specification cylinders. (Mode 1.)
14186-N | PHMSA-21132 | Dow Chemical Company, Midland, MI | 49 CFR 179.13 | To authorize the transportation in commerce of Class 3 and 8 and Division 2.1 and 6.1 hazardous materials in DOT specification 105J300W tank car tanks that exceed the maximum allowable gross weight on rail (263,000 lbs.). (Mode 2.)
14187-N | PHMSA-21127 | Space Systems/Loral, Palo Alto, CA | 49 CFR 173.302a | To authorize the transportation in commerce of nickel-hydrogen batteries in non-DOT specification packaging. (Mode 1.)
14188-N | PHMSA-21126 | Interdynamics, Inc., Tarrytown, NY | 49 CFR 173.304(d), 173.306(a) (3) and 178.33a | To authorize the manufacture, marking, sale and use of non-DOT specification inner nonrefillable metal receptacles similar to DOT specification 2Q containers for certain Division 2.2 materials. (Modes 1, 2, 3, 4.)
14189-N | PHMSA-21124 | PPG Industries, Inc., Pittsburgh, PA | 49 CFR 172.302, 172.326, 172.504, 173.242 | To authorize the transportation in commerce of the residue of certain Class 3 materials in non-DOT specification portable tanks without marking and placarding. (Mode 1.)
14190-N |  | Cordis Corporation, Miami Lakes, FL | 49 CFR 172.200, 172.300, 172.400 | To authorize the transportation in commerce of certain Class 3 and 9 materials across a public road without shipping papers, marking or labeling. (Mode 1.)

[FR Doc. 05-9710 Filed 5-13-05; 8:45 am]

BILLING CODE 4909-60-M